NUCLEAR REGULATORY COMMISSION

Advisory Committee on Nuclear Waste; Notice of Meeting

The Advisory Committee on Nuclear Waste (ACNW) will hold its 133rd meeting on March 19-21, 2002, at 11545 Rockville Pike, Rockville, Maryland, Room T-2B3.

The entire meeting will be open to public attendance.

The schedule for this meeting is as follows:

Tuesday, March 19, 2002

A. 8:30-9:40 a.m.: Opening Statement/Planning and Procedures (Open)—The Chairman will open the meeting with brief opening remarks. The Committee will then review items under consideration at this meeting and consider topics proposed for future ACNW meetings.

B. 10-12:30 p.m.: Update on DOE Performance Assessment Program (Open)—The Committee will hear a presentation from DOE on its recent performance assessment program activities for the proposed repository at Yucca Mountain, NV.

C. 2-3:30 p.m.: Annual Research Report to the Commission (Open)—The Committee will finalize its annual research report to the Commission.

D. 3:45-6 p.m.: Preparation for Meeting with the NRC Commissioners (Open)—The next meeting with the NRC Commissioners is scheduled to be held at 9:30 a.m. in the Commissioners' Conference Room, One White Flint North on March 20, 2002. The Committee will review its proposed presentations.

Wednesday, March 20, 2002

E. 8:30-8:35 a.m.: Opening Remarks by the ACNW Chairman (Open)—The ACNW Chairman will make opening remarks regarding the conduct of the meeting.

F. 8:35-9:10 a.m.: Discussion of Topics for Meeting with the NRC Commissioners (Open)—The Committee will finalize preparations and discuss topics scheduled for the ACNW meeting with the NRC Commissioners.

G. 9:30-11:30 a.m.: Meeting with the NRC Commissioners (Open)—The Committee will meet with the NRC Commissioners in the Commissioners' Conference Room, One White Flint North, to discuss:

• Sufficiency Review

• Total Systems Performance Assessment for Site Recommendation

• Key Technical Issues

• Review of NRC-Sponsored Research

H. 1:00-2:45 p.m.: High-Level Waste Performance Assessment Sensitivity Studies (Open)—The staff will provide an update on its sensitivity studies related to HLW performance assessment analyses for the proposed repository at Yucca Mountain, NV.

I. 3-6 p.m.: Preparation of ACNW Reports (Open)—The Committee will discuss proposed reports on the following topics:

• ACNW 2002 Action Plan

• Update on Igenous Activity including PA Analyses

• HLW Performance Assessment Sensitivity Studies

• Annual Research Report to the Commission

Thursday, March 21, 2002

J. 8:30-8:35 a.m.: Opening Remarks by the ACNW Chairman (Open)—The ACNW Chairman will make opening remarks regarding the conduct of the meeting.

K. 8:35-12 Noon: Yucca Mountain Review Plan, Revision 2 (Open)—The Committee will hear presentations by and hold discussions with representatives of the NRC staff regarding the Yucca Mountain Review Plan, Revision 2.

L. 1-4 p.m.: Preparation of ACNW Reports (Open)—The Committee will continue its discussion of proposed ACNW reports.

M. 4-4:15 p.m.: Miscellaneous (Open)—The Committee will discuss matters related to the conduct of Committee activities and matters and specific issues that were not completed during previous meetings, as time and availability of information permit.

Procedures for the conduct of and participation in ACNW meetings were published in the Federal Register on October 3, 2001 (66 FR 50461). In accordance with these procedures, oral or written statements may be presented by members of the public, electronic recordings will be permitted only during those portions of the meeting that are open to the public, and questions may be asked only by members of the Committee, its consultants, and staff. Persons desiring to make oral statements should notify Mr. Howard J. Larson, ACNW (Telephone 301/415-6805), between 8 a.m. and 4 p.m. EST, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EST at least 10 days before the meeting to ensure the availability of this service. Individuals or organizations requesting this service will be responsible for telephone line charges and for providing the equipment and facilities that they use to establish the videoteleconferencing link. The availability of videoteleconferencing services is not guaranteed.

Dated: March 5,2002.
Andrew L. Bates,
Advisory Committee Management Officer.

[FR Doc. 02-5764 Filed 3-8-02; 8:45 am]

BILLING CODE 7590-01-P